ENVIRONMENTAL PROTECTION AGENCY

[EPA-HQ-OECA-2014-0080; FRL-9920-07-OEI]

Information Collection Request Submitted to OMB for Review and Approval; Comment Request; NESHAP for Cellulose Products Manufacturing (Renewal)

AGENCY: Environmental Protection Agency (EPA).

ACTION: Notice.

SUMMARY: The Environmental Protection Agency has submitted an information collection request (ICR), “NESHAP for Cellulose Products Manufacturing (40 CFR part 63, subpart UUUU) (Renewal)” (EPA ICR No. 1974.07, OMB Control No. 2060-0488) to the Office of Management and Budget (OMB) for review and approval in accordance with the Paperwork Reduction Act (44 U.S.C. 3501 et seq). This is a proposed extension of the ICR, which is currently approved through January 31, 2015. Public comments were previously requested via the Federal Register (79 FR 30117) on May 27, 2014, during a 60-day comment period. This notice allows for an additional 30 days for public comments. A fuller description of the ICR is given below, including its estimated burden and cost to the public. An Agency may not conduct or sponsor, and a person is not required to respond, to a collection of information unless it displays a currently valid OMB control number.

DATES: Additional comments may be submitted on or before February 19, 2015.

ADDRESSES: Submit your comments, referencing Docket ID Number EPA-HQ-OECA-2014-0080, to: (1) EPA online using www.regulations.gov (our preferred method), by email to docket.oeca@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Patrick Yellin, Monitoring, Assistance, and Media Programs Division, Office of Compliance, Mail Code 2227A, Environmental Protection Agency, 1200 Pennsylvania Ave. NW., Washington, DC 20460; telephone number: (202) 564-2970; fax number: (202) 564-0050; email address: yellin.patrick@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit: http://www.epa.gov/dockets.

Abstract: Respondents are either owners or operators of cellulose products manufacturing facilities. Respondents would submit notifications and reports and maintain records required by the General Provisions (40 CFR part 63, subpart A). Recordkeeping of parameters related to air pollution control technologies is required.

Form Numbers: None.

Respondents/affected entities: Cellulose products manufacturing facilities.

Respondent's obligation to respond: Mandatory (40 CFR part 63, subpart UUUU).

Estimated number of respondents: 13 (total).

Frequency of response: Occasionally and semiannually.

Total estimated burden: 12,088 hours (per year). Burden is defined at 5 CFR 1320.3(b).

Total estimated cost: $1,184,426 (per year), which includes $1,014 in either annualized capital or operation & maintenance costs.

Changes in the Estimates: There is no change in labor hours in this ICR compared to the previous ICR. However, there is a small adjustment decrease in the respondent and Agency labor costs to correct mathematical and rounding errors.

Courtney Kerwin,
Acting-Director, Collection Strategies Division.

[FR Doc. 2015-00777 Filed 1-16-15; 8:45 am]

BILLING CODE 6560-50-P